DEPARTMENT OF COMMERCE

International Trade Administration

[A-201-817]

Oil Country Tubular Goods (“OCTG”) From Mexico; Preliminary Results of Sunset Review of Antidumping Duty Order

AGENCY: Import Administration, International Trade Administration, Department of Commerce.

ACTION: Notice of Preliminary Results of Full Sunset Review: Oil Country Tubular Goods (“OCTG”) from Mexico.

SUMMARY: On July 3, 2000, the Department of Commerce (“the Department”) initiated a sunset review of the antidumping duty order on oil country tubular goods (“OCTG”) from Mexico (65 FR 41053) pursuant to section 751(c) of the Tariff Act of 1930, as amended (“the Act”). On the basis of substantive responses filed by domestic and respondent interested parties, the Department determined to conduct a full review. As a result of this review, the Department preliminarily finds that revocation of the antidumping duty order would likely lead to continuation or recurrence of dumping at the levels indicated in the Preliminary Results of Review section of this notice.

EFFECTIVE DATE: October 30, 2000.

FOR FURTHER INFORMATION CONTACT: John P. Maloney, Jr. or James P. Maeder, Office of Policy for Import Administration, International Trade Administration, U.S. Department of Commerce, 14th Street and Constitution Avenue, NW., Washington, DC 20230; telephone: (202) 482-1503 or (202) 482-3330, respectively.

SUPPLEMENTARY INFORMATION:

Statute and Regulations

Unless otherwise indicated, all citations to the Act are references to the provisions effective January 1, 1995, the effective date of the amendments made to the Act by the Uruguay Round Agreements Act (“URAA”). In addition, unless otherwise indicated, all citations to the Department regulations are to 19 CFR Part 351 (2000). Guidance on methodological or analytical issues relevant to the Department's conduct of sunset reviews is set forth in the Department's Policy Bulletin 98.3—Policies Regarding the Conduct of Five-Year (“Sunset”) Reviews of Antidumping and Countervailing Duty Orders; Policy Bulletin, 63 FR 18871 (April 16, 1998) (“Sunset Policy Bulletin”).

Background

On July 3, 2000, the Department initiated a sunset review of the antidumping duty order on OCTG from Mexico (65 FR 41053), pursuant to section 751(c) of the Act. The Department received a notice of intent to participate on behalf of U.S. Steel Group, a unit of USX Corporation, North Star Steel Ohio, IPSCO Tubulars, Inc., Lone Star Steel Company, Maverick Tube Corporation, Newport Steel and Koppel Steel Divisions of NS Group, and Grant-Prideco (“domestic interested parties”), within the applicable deadline (July 18, 2000) specified in section 351.218(d)(1)(i) of the Sunset Regulations. On August 2, 2000, respondent interested parties Tubos de Acero de Mexico, S.A. (“TAMSA”) and Hylsa, S.A. de C.V. (“Hylsa”) notified the Department of their intent to participate in this review. Domestic interested parties claimed interested-party status under section 771(9)(C) of the Act, as the U.S. producers of a domestic like product; TAMSA and Hylsa are interested parties pursuant to section 771(9)(A) of the Act as foreign producers and exporters of subject merchandise.

On August 2, 2000, we received complete substantive responses from domestic interested parties, within the 30-day deadline specified in the Sunset Regulations under section 351.218(d)(3)(i). On August 2, 2000, we received complete substantive responses from TAMSA and Hylsa. The Department received rebuttal comments from domestic interested parties on August 7, 2000. On August 22, 2000, pursuant to 19 CFR 351.218 (e)(2), the Department determined to conduct a full (240-day) sunset review of this order.¹

¹ See August 22, 2000, Memoranda for Jeffrey A. May, Re: Oil Country Tubular Goods (“OCTG”) from Mexico; Adequacy of Respondent Interested Parties’ Response to the Notice of Initiation.

Scope of Review

Imports covered by this review are oil country tubular goods, hollow steel products of circular cross-section, including oil well casing, tubing, and drill pipe, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The OCTG subject to this review are currently classified in the Harmonized Tariff Schedule of the United States (HTSUS) under item numbers: 7304.21.30.00, 7403.21.60.00, 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

Although the HTSUS subheadings are provided for convenience and customs purposes, our written description of the scope of this proceeding is dispositive. The Department has determined that couplings, and coupling stock, are not within the scope of the antidumping order on OCTG from Mexico. See Letter to Interested Parties; Final Affirmative Scope Decision, August 27, 1998.

Analysis of Comments Received

All issues raised in the substantive responses and rebuttal briefs by parties to this sunset review are addressed in the “Issues and Decision Memorandum” (“Decision Memo”) from Jeffrey A. May, Director, Office of Policy, Import Administration, to Troy H. Cribb, Acting Assistant Secretary for Import Administration, dated October 23, 2000, which is hereby adopted and incorporated by reference into this notice. The issues discussed in the attached Decision Memo include the likelihood of continuation or recurrence of dumping and the magnitude of the margin likely to prevail were the order revoked. Parties can find a complete discussion of all issues raised in this review and the corresponding recommendations in this public memorandum which is on file in the Central Records Unit, room B-099, of the main Commerce building.

In addition, a complete version of the Decision Memo can be accessed directly on the Web at www.ita.doc.gov. The paper copy and electronic version of the Decision Memo are identical in content.

Preliminary Results of Review

We preliminarily determine that revocation of the antidumping duty order on OCTG from Mexico would be likely to lead to continuation or recurrence of dumping at the following percentage weighted-average margins:

Manufacturers/exporters | Margin (percent)
TAMSA | 21.70
Hylsa | 21.70
All Others | 21.70

Any interested party may request a hearing within 30 days of publication of this notice in accordance with 19 CFR 351.310(c). Any hearing, if requested, will be held on December 18, 2000, in accordance with 19 CFR 351.310(d). Interested parties may submit case briefs no later than December 11, 2000, in accordance with 19 CFR 351.309(c)(1)(i). Rebuttal briefs, which must be limited to issues raised in the case briefs, may be filed not later than December 15, 2000. The Department will issue a notice of final results of this sunset review, which will include the results of its analysis of issues raised in any such briefs, no later than February 28, 2001.

This five-year (“sunset”) review and notice are in accordance with sections 751(c), 752, and 777(i)(1) of the Act.

Dated: October 23, 2000.
Troy H. Cribb,
Acting Assistant Secretary for Import Administration.

[FR Doc. 00-27810 Filed 10-27-00; 8:45 am]

BILLING CODE 3510-DS-P